DEPARTMENT OF COMMERCE

National Oceanic and Atmospheric Administration

Pacific Fishery Management Council; Public Meeting

AGENCY: National Marine Fisheries Service (NMFS), National Oceanic and Atmospheric Administration (NOAA), Commerce.

ACTION: Notice of public meeting.

SUMMARY: The Pacific Fishery Management Council (Pacific Council) will convene a meeting of its Coastal Pelagic Species (CPS) Subcommittee of the Scientific and Statistical Committee (SSC). The meeting is open to the public.

DATES: The meeting will be held Thursday, March 10, 2016, from 8 a.m. to 5 p.m. Pacific Standard Time.

ADDRESSES: The meeting will be held at the Doubletree by Hilton Sacramento, Yuba River Room, 2001 Point West Way, Sacramento, CA 95815.

Council address: Pacific Fishery Management Council, 7700 NE Ambassador Place, Suite 101, Portland, OR 97220.

FOR FURTHER INFORMATION CONTACT: Kerry Griffin, Staff Officer; telephone: (503) 820-2409.

SUPPLEMENTARY INFORMATION: The primary purpose of the meeting is to review a stock assessment update of the Pacific sardine resource. The SSC CPS subcommittee will conduct the review, and one member each from the CPS Management Team and CPS Advisory Subpanel will serve as advisers. The Council will set harvest specifications and management measures at its April 9-14, 2016 meeting in Vancouver, WA.

Special Accommodations

Requests for sign language interpretation or other auxiliary aids should be directed to Mr. Kris Kleinschmidt (503) 820-2280 at least 5 days prior to the meeting date.

Dated: January 28, 2016.
Tracey L. Thompson,
Acting Deputy Director, Office of Sustainable Fisheries, National Marine Fisheries Service.

[FR Doc. 2016-01843 Filed 2-1-16; 8:45 am]

BILLING CODE 3510-22-P